SMALL BUSINESS ADMINISTRATION

[License No. 09/79-0420]

Aspen Ventures III, L.P.; Notice Seeking Exemption Under Section 312 of the Small Business Investment Act, Conflicts of Interest

Notice is hereby given that Aspen Ventures III, L.P., of 1000 Fremont Avenue, Suite 200, Los Altos, California 94024, a Federal Licensee under the Small Business Investment Act of 1958, as amended (“the Act”), in connection with the financing of a small concern, has sought an exemption under section 312 of the Act and section 107.703, Financings which Constitute Conflicts of Interest of the Small Business Administration (“SBA”) rules and regulations (13 CFR 107.730 (2001)). Aspen Ventures III, L.P. proposes to provide equity financing to RedSiren, Inc. of 650 Smithfield Street Suite 900, Pittsburgh, Pennsylvania 15222. The financing is contemplated for general corporate purposes including research and development, sales and marketing expansion and working capital.

This financing is brought within the purview of §107.730(a)(1) of the regulations because Aspen Ventures III L.P.’s limited partner Redleaf Group, Inc. (an investor in Aspen Ventures III) and an Associate of Aspen Ventures III, L.P., currently owns greater than 10 percent of RedSiren, Inc. and therefore is considered an Associate Aspen Ventures III, L.P., as defined in §107.50 of the regulations.

Notice is hereby given that any interested person may submit written comments on the transaction to the Associate Administrator for Investment, U.S. Small Business Administration, 409 Third Street, SW, Washington, DC 20416.

Dated: December 11, 2003.
Jeffrey D. Pierson,
Associate Administrator for Investment.

[FR Doc. 03-31519 Filed 12-22-03; 8:45 am]

BILLING CODE 8025-01-P